DEPARTMENT OF HOMELAND SECURITY

Coast Guard

33 CFR Part 117

[Docket No. USCG-2014-1066]

Drawbridge Operating Regulations; Atchafalaya River, Morgan City, Louisiana

AGENCY: Coast Guard, DHS.

ACTION: Notice of temporary deviation from regulations; modification of effective date.

SUMMARY: The Coast Guard is modifying the effective date of a published temporary deviation from the operating schedule that governs the Morgan City (Berwick Bay) Railroad Bridge across the Atchafalaya River, mile 17.5 (Gulf Intracoastal Waterway (Morgan City-Port Allen Alternate Route) mile 0.3) in Morgan City, St. Mary Parish, Louisiana. The modification of the date is necessary to further minimize the effects on navigation caused by additional repairs required for the bridge. The deviation is necessary to complete the previously approved repairs and to allow additional repairs to the fender system. This deviation allows for the bridge to remain closed to navigation for four consecutive hours in the morning and three hours in the afternoon with an opening in the middle to pass vessels for five weekdays over a two-week period.

DATES: The deviation published in the Federal Register on January 16, 2015 (80 FR 2302), is effective from 7 a.m. to 11 a.m. and then again from 1 p.m. through 4 p.m. on February 4 through 6, 2015, and then again February 9 and 10, 2015.

ADDRESSES: The docket for this deviation, [USCG-2014-1066] is available at http://www.regulations.gov. Type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Geri Robinson, Bridge Administration Branch, Coast Guard, telephone (504) 671-2128, email geri.a.robinson@uscg.mil. If you have questions on viewing the docket, call Cheryl F. Collins, Program Manager, Docket Operations, telephone 202-366-9826

SUPPLEMENTARY INFORMATION: On January 16, 2014, the Coast Guard's notice of temporary deviation from regulations under the same docket number, USCG-2014-1066 was published in the Federal Register (80 FR 2302). That document resulted from the BNSF Railway Company's request for a temporary deviation, occurring from January 26, 2015 to January 31, 2015, from the normal operation of the drawbridge to perform the installation of new generators and remove the old festoon cable. Subsequent to the approval of that request, BNSF Railway Corporation requested a second temporary deviation for dates in early February to complete additional repairs to the fender system of the bridge. Coordination between all interested parties determined that all work could be accomplished during one scheduled closure occurring in early February, 2015. This new scheduling avoids two separate deviations causing a longer term impact on navigation. Therefore, through this document, the Coast Guard modifies the dates of the previously approved temporary deviation. The modification allows the drawbridge of the Morgan City (Berwick Bay) Railroad Bridge across the Atchafalaya River, mile 17.5 (Gulf Intracoastal Waterway (Morgan City-Port Allen Alternate Route) mile 0.3), to remain closed to navigation for four consecutive hours in the morning and three hours in the afternoon, with an opening from 11 a.m. to 1 p.m. to allow vessels to pass. The deviation is effective from 7 a.m. to 11 a.m. and then again from 1 p.m. through 4 p.m. daily, resulting in the bridge being closed to navigation on the following days: Wednesday, February 4, 2015, to Friday, February 6, 2015, and Monday, February 9, 2015, to Tuesday, February 10, 2015.

Notices of the deviation schedule will be published in the Eighth Coast Guard District Local Notice to Mariners and will be broadcast via the Coast Guard Broadcast Notice to Mariners System. A Broadcast Notice to Mariners will be used to update mariners of any changes to the planned schedule for this deviation.

In accordance with 33 CFR 117.35(e), the drawbridge must return to its regular operating schedule immediately at the end of the designated time period. This deviation from the operating regulations is authorized under 33 CFR 117.35.

Dated: January 15, 2015.
David M. Frank,
Bridge Administrator, Eighth Coast Guard District.

[FR Doc. 2015-00924 Filed 1-21-15; 8:45 am]

BILLING CODE 9110-04-P